DEPARTMENT OF AGRICULTURE

Natural Resources Conservation Service

[Docket ID NRCS-2023-0004]

Request for Public Input About Implementation of the Mississippi River Basin Healthy Watersheds Initiative and the National Water Quality Initiative

AGENCY: Natural Resources Conservation Service, USDA.

ACTION: Request for information.

SUMMARY: The Natural Resources Conservation Service (NRCS) requests public input for NRCS to use in refining the Mississippi River Basin Healthy Watershed Initiative (MRBI) and the National Water Quality Initiative (NWQI) to better protect and improve water quality. NRCS also requests comments on how we can streamline and improve MRBI and NWQI to increase efficiencies and expand access for underserved communities and producers. Finally, NRCS requests comments on how we can engage with partners to provide technical assistance for MRBI and NWQI implementation. This effort will help NRCS identify and prioritize improvements to MRBI and NWQI starting in fiscal year (FY) 2024.

DATES: We will consider comments that we receive by April 7, 2023. Comments received after that date will be considered to the extent possible.

ADDRESSES: We invite you to send comments in response to this notice. You may send comments through the method below:

• Federal eRulemaking Portal: Go to http://www.regulations.gov and search for Docket ID NRCS-2023-0004. Follow the online instructions for submitting comments.

All comments received, including those received by mail, will be posted without change and will be publicly available on http://www.regulations.gov.

SUPPLEMENTARY INFORMATION:

Background

MRBI and NWQI are targeted efforts to address water quality resource concerns. In 2009, USDA announced MRBI as a multiyear partnership effort with the Mississippi River/Gulf of Mexico Hypoxia Task Force (HTF), a Federal and state partnership established to address excess nutrients in the Mississippi River and the associated dead zone in the Gulf of Mexico. NWQI was initiated in 2012 as a partnership effort between the Environmental Protection Agency (EPA) and NRCS to work with states to address nutrient, sediment, and pathogen water quality issues that lead to the impairment of water quality in agricultural watersheds. MRBI is delivered in the 12 member states of HTF, and NWQI is available in all U.S. states and territories.

Both initiatives operate by increasing the effectiveness of Farm Bill assistance within prioritized small watersheds. Delivery of assistance through the Environmental Quality Incentive Program (EQIP) and, in MRBI, the Conservation Stewardship Program (CSP) is guided by watershed plans that identify critical treatment needs. Both initiatives are conducted under authorities that permit NRCS to identify and target opportunities to address priority resource concerns.

MRBI initially focused on a broad range of issues in the Mississippi River basin, including water quantity and wildlife habitat. The 2008 HTF action plan prioritized developing nutrient loss reduction strategies by states no later than 2013. Nutrient loss reduction strategies identify locally appropriate ways for states to reduce nutrient contributions to the Mississippi River and the Gulf of Mexico. MRBI is now focused on delivering assistance that aligns with the various state nutrient reduction strategies. In addition, NRCS has made MRBI more effective over time by incorporating watershed assessments and other improvements.

NWQI was designed to support watershed plans that address the water quality concerns being targeted. Starting in 2017, NRCS improved the effectiveness of associated plans by adopting a watershed assessment framework to ensure that all prioritized watersheds followed a pathway to success. In 2019, NRCS worked with EPA to expand the scope of the initiative to include source water protection as a purpose for prioritizing watersheds.

Request for Input

Maximizing the Value of Public Feedback

Responses to the list of questions in this notice will assist NRCS in the delivery of MRBI and NWQI. NRCS encourages public comment on these questions and requests any other information that commenters believe is relevant to this notice. The feedback that is most useful to NRCS identifies specific policies or processes and includes actionable information, data, or viable alternatives that meet statutory goals and requirements. Feedback that only provides a commenter's suggestion for a change but does not contain specific information on what change should be considered, how a proposed change will meet statutory goals and requirements, or how the change would improve existing processes is less useful to NRCS.

To provide comments that will be most useful to NRCS, commenters should respond, in as much detail as possible, to the questions in this notice by:

• Identifying the NRCS regulation or policy at issue, providing the Code of Federal Regulation (CFR) and NRCS Manual citation where available or applicable (see https://directives.sc.egov.usda.gov for NRCS current policy manuals and handbooks);

• Explaining why an NRCS regulation, policy, form, or program process should be modified, streamlined, expanded, or removed, as well as specific suggestions about how NRCS can better achieve MRBI and NWQI objectives and reduce unnecessary burdens on producers and partners;

• Providing specific data that document how the proposed recommendations would increase benefits achievable through MRBI and NWQI; and

• Addressing how NRCS can best quantify or otherwise obtain and consider accurate, objective information and data about outcomes achieved through MRBI and NWQI.

You may contact us by sending an email to: SM.NRCS.LandscapeConservationInitiatives@usda.gov if you have questions or concerns. Please specify the docket ID Docket ID: NRCS-2023-0004 in the subject line.

List of Questions for Commenters

The following list of questions is not exhaustive. However, it is meant to assist members of the public in formulating comments on important issues NRCS is considering as we implement MRBI and NWQI. This list is not intended to restrict the feedback that members of the public may provide:

(1) How should NRCS improve the effectiveness of MRBI and NWQI when addressing water quality concerns?

(2) To effectively deliver water quality improvement and protection, MRBI and NWQI require watershed assessments to guide conservation assistance. How should NRCS improve the watershed assessment process to target delivery of conservation assistance achieved through MRBI and NWQI?

(3) How can NRCS ensure that MRBI and NWQI provide the benefits of water quality conservation to disadvantaged communities and underserved producers?

(4) Under the Clean Water Act, water quality impairments have been removed from many water bodies in MRBI and NWQI watersheds, and in-stream monitoring in many NWQI watersheds has shown improvements related to agricultural conservation. How should NRCS improve and potentially expand the metrics for the measurement of outcomes targeted and achieved through MRBI and NWQI?

Review of Public Feedback

NRCS will use the public's feedback to improve its program delivery through MRBI and NWQI. This notice is issued solely for information and program-planning purposes. Public input provided in response to this notice does not bind NRCS to any further actions, including publication of any formal response or agreement to initiate a recommended change. NRCS will consider the feedback and make changes or process improvements at its sole discretion. Finally, comments submitted in response to this notice will not be considered as petitions for rulemaking submitted pursuant to 5 U.S.C. 553(e).

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Terry Cosby,
Chief, Natural Resources Conservation Service.

[FR Doc. 2023-04762 Filed 3-7-23; 8:45 am]

BILLING CODE 3410-16-P